DEPARTMENT OF AGRICULTURE

Forest Service

Medicine Bow-Routt National Forests and Thunder Basin National Grassland; Wyoming; Thunder Basin National Grassland Prairie Dog Amendment Environmental Impact Statement; Correction

AGENCY: Forest Service, USDA.

ACTION: Notice of intent to prepare an environmental impact statement; Correction.

SUMMARY: A Notice of Intent (NOI) for this proposal was first published in the Federal Register on September 13, 2013 (78 FR 56650). This corrected NOI is being published to reinitiate the scoping period to allow for the rescheduling of public meetings that were cancelled during the original scoping period due to the lapse in government funding; to identify adjustments in project timelines; and to identify the State of Wyoming and the United States Fish and Wildlife Service (USFWS) as Cooperating Agencies. No changes to the Proposed Action or Purpose of and Need for Action have been made.

DATES: Comments in response to this corrected NOI should be received by January 3, 2014. Please note that all comments received during the previous scoping period (ended October 28, 2013) will be considered in the preparation of the environmental impact statement (EIS). The Draft EIS is expected to be published in June 2014 and the Final EIS is expected to be published in October 2014.

ADDRESSES: Written comments concerning this notice should be addressed to: Responsible Official, Douglas Ranger District, 2250 East Richards Street, Douglas, Wyoming 82633. Comments may also be sent via email to comments-rm-mbr-douglas-thunder-basin@fs.fed.us or via facsimile to (307) 358-7107.

All comments, including names and addresses when provided, are placed in the record and are available for public inspection and copying. The public may inspect comments received at the address provided above. Visitors are encouraged to call ahead (307-358-4690) to facilitate entry into the building.

FOR FURTHER INFORMATION CONTACT: Thomas Whitford, District Ranger, Douglas Ranger District, Medicine Bow-Routt National Forests and Thunder Basin National Grassland. Telephone: (307) 358-4690.

Individuals who use telecommunication devices for the deaf (TDD) may call the Federal Information Relay Service (FIRS) at 1-800-877-8339 between 8:00 a.m. and 8:00 p.m., Eastern Standard Time, Monday through Friday.

SUPPLEMENTARY INFORMATION:

Lead and Cooperating Agencies

The United States Forest Service, Medicine Bow-Routt National Forests and Thunder Basin National Grassland, is the lead agency. The United States Fish and Wildlife Service (USFWS) and the State of Wyoming would be cooperating agencies.

Responsible Official

The Forest Supervisor, Medicine Bow-Routt National Forests and Thunder Basin National Grassland, 2468 Jackson Street, Laramie, Wyoming 82070, is the official responsible for making the decision on this action.

Nature of Decision To Be Made

Site-specific management proposals, alternatives to the Proposed Action, and the effects of the activities proposed in the alternatives will be analyzed in the Thunder Basin National Grassland Prairie Dog Amendment EIS. The EIS will form the basis for the Responsible Official to determine:

1. Whether the Proposed Action will proceed as proposed, as modified by an alternative, or not at all; and

2. Design criteria and monitoring requirements necessary for project implementation.

Scoping Process

This notice of intent reinitiates the scoping process, which guides the development of the environmental impact statement. While public comments are welcome at any time, comments received during the scoping period are most useful for the identification of issues and the development and analysis of alternatives to the Proposed Action. More detailed information specific to the Proposed Action (e.g., scoping document and maps) is located on the World Wide Web at: http://www.fs.fed.us/nepa/nepa_project_exp.php?project=42753.

Along with this opportunity to comment, the Forest Service will also be hosting four Open House/Presentation meetings for the Thunder Basin National Grassland Prairie Dog Amendment. The Open House/Presentation meetings will be held on November 18th, 19th, 20th, and 21st, 2013.

• November 18th: Douglas, Wyoming—Douglas National Guard Armory—315 Pearson Road

• November 19th: Newcastle, Wyoming—USDA Hell Canyon Ranger District Office—1225 Washington Boulevard

• November 20th: Wright, Wyoming—Wright Town Hall—Council Room—201 Wright Boulevard

• November 21st: Cheyenne, Wyoming—Laramie County Library—Sunflower Room—2200 Pioneer Avenue

The meetings will begin at 4:00 p.m. and generally last until 7:00 p.m. The meetings will begin with a 30-minute Open House, followed by a short presentation and time for public comment, and ending with additional time for viewing of Open House materials and displays. Forest Service employees assigned to the Thunder Basin National Grassland Prairie Dog Amendment will be available to discuss and answer questions the public may have about the Proposed Action.

The Forest Service will be operating under the new Part 218—Project-level Pre-decisional Administrative Review Process (hereinafter referred to as `objection'), 36 CFR 218 subparts A and B, for this analysis. Per these regulations, individuals and entities who submit timely, specific written comments regarding a proposed project or activity during any designated opportunity for public comment will have standing to file an objection. This includes requests for comments during this initial scoping period as well as comments submitted during the 45-day comment period for the Draft EIS.

It is the responsibility of persons providing comments to submit them by the close of established comment periods. Only those who submit timely and specific written comments will have eligibility (36 CFR 218.5) to file an objection under 36 CFR 218.8. For objection eligibility, each individual or representative from each entity submitting timely and specific written comments must either sign the comment or verify identity upon request. Individuals and organizations wishing to be eligible to object must meet the information requirements in § 218.25(a)(3). Names and contact information submitted with comments will become part of the public record and may be released under the Freedom of Information Act.

Dated: October 25, 2013.
Phil Cruz,
Forest Supervisor.

[FR Doc. 2013-26049 Filed 10-31-13; 8:45 am]

BILLING CODE 3410-11-P